DEPARTMENT OF STATE

[Public Notice: # 7241]

Advisory Committee on Historical Diplomatic Documentation; Notice of Charter Renewal

The Advisory Committee on Historical Diplomatic Documentation is renewing its charter for a period of two years. This Advisory Committee will continue to make recommendations to the Historian and the Department of State on all aspects of the Department's program to publish the Foreign Relations of the United States series as well as on the Department's responsibility under statute (22 U.S.C. 4351, et seq.) to open its 30-year-old and older records for public review at the National Archives and Records Administration. The Committee consists of nine members drawn from among historians, political scientists, archivists, international lawyers, and other social scientists who are distinguished in the field of U.S. foreign relations.

Questions concerning the Committee and the renewal of its Charter should be directed to Edward Brynn, Executive Secretary, Advisory Committee on Historical Diplomatic Documentation, Department of State, Office of the Historian, Washington, DC 20520, telephone (202) 663-1123 (e-mail history@state.gov).

Dated: February 9, 2011.
Edward Brynn,
Executive Secretary, Advisory Committee on Historical Diplomatic Documentation, Department of State.

[FR Doc. 2011-5706 Filed 3-10-11; 8:45 am]

BILLING CODE 4710-11-P